ELECTION ASSISTANCE COMMISSION

Sunshine Act Notice

AGENCY: U.S. Election Assistance Commission.

ACTION: Notice of public meeting roundtable discussion.

DATE & TIME: Tuesday, October 13, 2009, 9 a.m.-4 p.m. (EST).

PLACE: Kellogg Conference Center, Gallaudet University, 800 Florida Ave., NE., Washington, DC 20002. (202) 651-6000.

AGENDA: The Commission will host a roundtable discussion regarding research, development and implementation of technologies and other assistance to make voting more accessible. Panelists at the roundtable will help to inform the Commission regarding the types of research that should be supported through the Accessible Voting Technology Initiative (AVTI). The AVTI is a competitive grant program that will fund research and technology adoption to make voting systems (including paper ballots) more accessible to all voters and make the entire election process more welcoming and accessible to individuals with disabilities. Competitive grants for this initiative will be issued under the Help America Vote Act of 2002 and funded by the Omnibus Appropriations Act for Fiscal Year 2009 (Pub. L. 111-8). The Commission is currently accepting comments on the plan for development of a notice of funding announcement here: http://www.eac.gov/program-areas/grants/eac-seeks-input-on-voting-system-verification-and-technology-grants.

Members of the public may observe but not participate in EAC meetings unless this notice provides otherwise. Members of the public may use small electronic audio recording devices to record the proceedings. The use of other recording equipment and cameras requires advance notice to and coordination with the Commission's Communications Office.*

*View EAC Regulations Implementing Government in the Sunshine Act.

This meeting will be open to the public.

PERSON TO CONTACT FOR INFORMATION: Mark Abbott, Telephone: (202) 566-3100.

Thomas R. Wilkey,
Executive Director, U.S. Election Assistance Commission.

[FR Doc. E9-22657 Filed 9-16-09; 4:15 pm]

BILLING CODE 6820-KF-P